DEPARTMENT OF LABOR

Employment and Training Administration

[TA-W-40,774]

Frederic Goldman, Inc., Casting Division, New York, NY; Notice of Termination of Investigation

Pursuant to section 221 of the Trade Act of 1974, an investigation was initiated on February 11, 2002, in response to a worker petition, which was filed by the company on behalf of workers at Frederic Goldman, Inc., Casting Division, New York, New York.

The petitioner has requested that the petition be withdrawn. Consequently, further investigation in this case would serve no purpose, and the investigation has been terminated.

Signed in Washington, DC this 21st day of June, 2002.
Linda G. Poole,
Certifying Officer, Division of Trade Adjustment Assistance.

[FR Doc. 02-17145 Filed 7-8-02; 8:45 am]

BILLING CODE 4510-30-P